DEPARTMENT OF ENERGY

Federal Energy Regulatory Commission

[Docket Nos. ER00-3038-003 and EL00-70-004]

New York Independent System Operator, Inc.; Notice of Filing

August 22, 2000.

Take notice that on August 10, 2000, the New York Independent System Operator, Inc. (NYISO), tendered for filing revisions to its Open Access Transmission Tariff (OATT) in compliance with the Federal Energy Regulatory Commission Order in Docket No. ER00-3038-000, et al., on July 26, 2000, 92 FERC ¶ 61,073. Pursuant to the Commission's order, the revisions have an effective date of July 26, 2000.

A copy of this filing was served upon all parties who have executed Service Agreements under the ISO OATT.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before September 1, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-21850 Filed 8-25-00; 8:45 am]

BILLING CODE 6717-01-M